DEPARTMENT OF THE INTERIOR

Bureau of Land Management

[OR-958-1430-ET; HAG-03-0073; OR-57068]

Notice of Proposed Withdrawal and Opportunity for Public Meeting; Oregon

AGENCY: Bureau of Land Management, Interior.

ACTION: Notice.

SUMMARY: The Bureau of Indian Affairs proposes to withdraw approximately 19.2 acres of public lands for a period of 20 years, to protect and preserve archeological, historical, and cultural resources of great significance to the Confederated Tribes of Coos, Lower Umpqua, and Siuslaw Indians. This notice closes the lands for up to 2 years from surface entry and mining.

EFFECTIVE DATE: Comments and requests for a public meeting must be received by August 5, 2003.

ADDRESSES: Comments and meeting requests should be sent to the Oregon/Washington State Director, BLM, PO Box 2965, Portland, Oregon 97208-2965.

FOR FURTHER INFORMATION CONTACT: Linda Petterson, Coos Bay Field Office, 541-751-4207, or, Charles R. Roy, BLM Oregon/Washington State Office, 503-808-6189.

SUPPLEMENTARY INFORMATION: The Bureau of Indian Affairs has filed an application to withdraw the following described public lands from settlement, sale, location and entry under the general land laws, including the mining laws, subject to valid existing rights:

Willamette Meridian

T. 26 S., R. 14 W.,

Gregory Point

sec. 4, lot 5.

T. 26 S., R. 14 W.,

Chief's Island sec. 4, unsurveyed island lying north of lot 5.

The areas described aggregates approximately 19.2 acres in Coos County.

The purpose of the proposed withdrawal is to protect and preserve archeological, historical, and cultural resources of great significance to the Confederated Tribes of Coos, Lower Umpqua, and Siuslaw Indians.

For a period of 90 days from the date of publication of this notice, all persons who wish to submit comments, suggestions, or objections in connection with the proposed withdrawal may present their views in writing to the State Director at the above stated address.

Notice is hereby given that an opportunity for a public meeting is afforded in connection with the proposed withdrawal. All interested parties who desire a public meeting for the purpose of being heard on the proposed withdrawal must submit a written request to the State Director at the above stated address within 90 days from the date of publication of this notice in the Federal Register. Upon determination by the authorized officer that a public meeting will be held, a notice of the time and place will be published in the Federal Register at least 30 days before the scheduled date of the meeting.

The application will be processed in accordance with the regulations set forth in 43 CFR 2300.

For a period of 2 years from the date of publication of this notice in the Federal Register, the lands will be segregated as specified above unless the application is denied or canceled or the withdrawal is approved prior to that date. The temporary land uses which may be permitted during this segregative period will be limited to ongoing United States Coast Guard activities, and those uses currently authorized by the United States Coast Guard, and the current activities of tribal members.

Dated: April 17, 2003.
Robert D. DeViney, Jr.,
Chief, Branch of Realty and Records Services.

[FR Doc. 03-11251 Filed 5-6-03; 8:45 am]

BILLING CODE 4310-33-P